DEPARTMENT OF THE TREASURY

Office of Foreign Assets Control

Additional Identifying Information for One (1) Individual Designated Pursuant to Executive Order 12947

AGENCY: Office of Foreign Assets Control, Treasury.

ACTION: Notice.

SUMMARY: The Treasury Department's Office of Foreign Assets Control (“OFAC”) is publishing additional identifying information for one individual whose property and interests in property are blocked pursuant to Executive Order 12947 of January 23, 1995, “Blocking Property and Prohibiting Transactions With Persons Who Threaten to Disrupt the Middle East Peace Process” (the “Order”).

DATES: The addition by the Director of OFAC to the identifying information for an individual who was previously designated pursuant to the Order was published on OFAC's List of Specially Designated Nationals and Blocked Persons (“SDN List”) on September 13, 2012.

FOR FURTHER INFORMATION CONTACT: Assistant Director, Sanctions Compliance and Evaluation, Office of Foreign Assets Control, Department of the Treasury, Washington, DC 20220, tel.: 202/622-2490.

SUPPLEMENTARY INFORMATION:

Electronic and Facsimile Availability

The SDN List and additional information concerning OFAC are available from OFAC's Web site (www.treas.gov/ofac). Certain general information pertaining to OFAC's sanctions programs also is available via facsimile through a 24-hour fax-on-demand service, tel.: 202/622-0077.

Background

On January 23, 1995, the President issued the Order pursuant to the International Emergency Economic Powers Act, 50 U.S.C. 1701-1706, imposing economic sanctions on persons who threaten to disrupt the Middle East peace process. The President identified in the Annex to the Order various entities as subject to the economic sanctions. The Order authorizes the Secretaries of State and of the Treasury, in coordination with each other and with and the Attorney General, to designate foreign persons determined by the Secretary of the State to (1) have committed, or pose a significant risk of committing, acts of violence that have the purpose or effect of disrupting the Middle East peace process; or (2) assist in, sponsor, or provide financial, material, or technological support for, or services in support of, such acts of violence; or persons determined by the Secretary of the Treasury to be owned or controlled by, or act for or on behalf of, any of the persons listed under the Order.

On September 13, 2012 the Director of OFAC made an addition to the identifying information for the following individual whose property and interests in property are blocked pursuant to the Order:

Individual

1. NASRALLAH, Hasan (a.k.a. NASRALLAH, Hasan Abd-al-Karim); DOB 31 Aug 1960; alt. DOB 31 Aug 1953; alt. DOB 31 Aug 1955; alt. DOB 31 Aug 1958; POB Al Basuriyah, Lebanon; Passport 042833 (Lebanon); Secretary General of HIZBALLAH (individual) [SDT] [SYRIA].

Dated: September 13, 2012.
Adam J. Szubin,
Director, Office of Foreign Assets Control.

[FR Doc. 2012-23485 Filed 9-21-12; 8:45 am]

BILLING CODE 4810-AL-P